DEPARTMENT OF COMMERCE

International Trade Administration

Trade Mission to Philippines and Malaysia

AGENCY: International Trade Administration, Department of Commerce

ACTION: Notice

Mission Description

The United States Department of Commerce, International Trade Administration, U.S. & Foreign Commercial Service (US&FCS), is organizing an executive led education industry trade mission to Manila, Philippines and Kuala Lumpur, Malaysia from October 23—October 30, 2013. This mission is open to representatives from regionally accredited educational institutions offering undergraduate, graduate, and associate degree. Undergraduate and graduate programs and community colleges seeking to participate should be accredited by one of the six regional institutional accreditors in the United States. This mission will seek to connect educational institutions in the United States to potential students, university/institution partners, and education consultants in the Philippines and Malaysia. The mission will include one-on-one appointments with potential partners, embassy briefings, student fairs and networking events in Manila and Kuala Lumpur, the largest cities in two dynamic countries, each of which hold high potential for U.S. educational institutions interested in students from this region.

Commercial Setting

Philippines

The U.S. still attracts a commanding share of Filipinos wishing to study abroad. U.S. institutions remain a top choice owing in large part to the firmly established historical, socio-cultural and political ties between the two countries. Due to increased competition from schools in other countries such as Australia, Singapore, the United Kingdom and Canada, U.S. schools are encouraged to establish and sustain outreach activities and to leverage the support offered by key education sector contacts. During the 2011/2012 academic year, 3,194 students from the Philippines were studying in the United States. Of these students, 52.7% were undergraduate students and 32.6% were graduate students.

The current educational system in the Philippines is largely based on the American model. There are about 1,600 higher educational institutions (HEIs) in the Philippines, of which 80% are private. There are several international schools in the Philippines. Many of these schools are concentrated in the Manila metropolitan area and offer International Baccalaureate (IB) programs to help prepare students who wish to study overseas. Filipino families place a premium on quality education, and as long as they can afford it, parents often prefer to send their children to private schools. Many overseas schools are increasing their recruiting efforts in the Phillipines, particularly with respect to certain niche segments of Filipino society, for example the socio-economic political elite, legacy students/alumni network, and upper middle class families. Meanwhile, there has been a wave of international students, notably Koreans, who spend time in the Philippines specifically to learn English. Many of them eventually move on to pursue degrees in English-speaking countries like the United States, Canada and Australia.

Malaysia

Malaysian parents have historically placed a strong emphasis on education. As such, the demand for higher education in Malaysia has traditionally been and continues to be strong. Within the higher education environment, students in Malaysia generally fall into one of two categories: those funded by government scholarships and those funded privately. Government scholarships for higher education are available. These government funded students typically either study in local public universities or for those who excel, overseas educational institutions. The majority of privately funded students study at private colleges, which often offer transfer, twinning, and external degree programs based on U.S., curriculum. Twinning is defined as a unique degree program where students can complete one part of their education in country and the second part at an international institution.

While a U.S. post secondary education has always been highly regarded, the number of Malaysian students studying in the United States decreased in the early 2000's as a result of an increase in the number of quality local universities and colleges, stronger competition from other countries, the Asian financial crisis, and 9/11. However, since 2006/7, the number of Malaysian students in the United States has increased 21.6%. In the 2011/12 academic year, 6,743 Malaysian students were studying in the United States, which ranks Malaysia as the twenty-first leading place of origin for students coming to the United States. Of these students, 68% were undergraduates and 19.7% were graduate students.

Mission Goals

The goals of the U.S. Education Mission to the Philippines and Malaysia are:

(1) To gain market exposure and introduce participants to two growing student markets in the region, taking advantage of the strong ties and positive reputation that United States educational institutions have in these countries.

(2) To develop market knowledge and relationships that can enhance future recruitment of students, as well as potential partnerships with local educational institutions and education consultants.

Mission Scenario

Participation in the mission will include the following:

• Pre-travel briefings/webinars;

• Embassy/consulate and industry briefings;

• Networking events in Manila and Kuala Lumpur;

• Pre-scheduled meetings with university heads in Manila and Kuala Lumpur;

• Educational consultants and guidance counselors fairs;

• Visits to private high schools;

• Student recruitment fairs in Manila and Kuala Lumpur;

• Airport transfers to hotels and to and from sites in Manila and Kuala Lumpur associated with the trade mission.

The precise schedule will depend on the specific goals and objectives of the mission participants.

Proposed Mission Schedule—October 23-30, 2013

Wednesday, October 23, 2013

Arrive Manila.

Thursday and Friday, October 24 and 25, 2013

Embassy breakfast briefing, meetings with agents and guidance counselors, student fair, networking with local schools All scheduled events in Manila will end Friday evening.

Saturday through Monday, October 26, 27, and 28, 2013

Per clients' suggestions on previous missions, we have left this time open for mission participants to stay in Manila or go on to Kuala Lumpur for potential business meetings. All participants must be in Kuala Lumpur by Monday evening.

Tuesday and Wednesday, October 29 and 30, 2013

Embassy breakfast briefing, meetings with agents and guidance counselors, student fair, visits to local schools.

Participation Requirements

All parties interested in participating in the Mission to the Philippines and Malaysia must complete and submit an application for consideration by the U.S. Department of Commerce. All applicants will be evaluated on their ability to meet certain conditions and best satisfy the selection criteria as outlined below. The mission will include a minimum of 40 and maximum of 50 qualified, regionally accredited U.S. educational institutions.

Fees and Expenses

After an educational institution has been selected to participate on the mission, a payment to the U.S. Department of Commerce in the form of a participation fee is required. The participation fee is $1,800 for one principal representative from each non-profit educational institution and $2,350 for for-profit universities with over 500 employees. The fee for each additional representative is $500. Expenses for lodging, some meals, incidentals, and all travel (except on group site visits) will be the responsibility of each mission participant.

Conditions for Participation

An applicant must submit a timely, completed and signed mission application and supplemental application materials, including adequate information on the applicant's accreditation, courses offerings, primary market objectives, and goals for participation. If the U.S. Department of Commerce receives an incomplete application, the Department may reject the application, request additional information, or take the lack of information into account when evaluating the applications.

• Participants must also travel to both stops on the mission.

• Each participant is subject to and must meet the US&FCS service eligibility requirements.

Selection Criteria for Participation

• Consistency of the applicant's goals and objectives with the stated scope of the mission

• Applicant's potential for doing business in the Philippines and Malaysia, including likelihood of service exports (education)/knowledge transfer resulting from the mission

• Applicant must be appropriately accredited as per paragraph one

• Referrals from political organizations and any documents containing references to partisan political activities (including political contributions) will be removed from an applicant's submission and not considered during the selection process.

Timeframe for Recruitment and Applications

Mission recruitment will be conducted in an open and public manner, including publication in the Federal Register, posting on the U.S. Department of Commerce trade mission calendar (http://www.trade.gov/trademissions) and other Internet Web sites, press releases to general and trade media, direct mail, notices by industry trade associations and other multiplier groups, and publicity at industry meetings, symposia, conferences, and trade shows. Recruitment for the mission will begin immediately and conclude no later than August 1, 2013. The mission will be open on a first-come, first-serve basis and applications will be reviewed on a rolling basis. Applications received after that date will be considered only if space and scheduling constraints permit.

How to Apply

Applications can be obtained by contacting Melissa Branzburg or David Edmiston at the U.S. Department of Commerce (see contact details below.) Completed applications should be submitted to Melissa Branzburg.

Contacts

Melissa Branzburg, U.S. Commercial Service, Boston, MA, Melissa.Branzburg@trade.gov, 617-565-4309.

David Edmiston, U.S. Commercial Service, Minneapolis, MN, David.Edmiston@trade.gov, 612-348-1644.

Thess Sula, U.S. Commercial Service, Manila, Philippines, Thess.Sula@trade.gov, 632-888-4088.

Tracy Yeoh, U.S. Commercial Service, Kuala Lumpur, Malaysia, Tracy.Yeoh@trade.gov, 60-3-2168-5089.

Elnora Moye,
Trade Program Assistant.

[FR Doc. 2013-08722 Filed 4-12-13; 8:45 am]

BILLING CODE 3510-FP-P